DEPARTMENT OF TRANSPORTATION

National Highway Traffic Safety Administration

49 CFR Part 541

[Docket No. NHTSA-2013-0073]

Preliminary Theft Data; Motor Vehicle Theft Prevention Standard

AGENCY: National Highway Traffic Safety Administration (NHTSA), Department of Transportation.

ACTION: Publication of preliminary theft data; request for comments.

SUMMARY: This document requests comments on data about passenger motor vehicle thefts that occurred in calendar year (CY) 2011, including theft rates for existing passenger motor vehicle lines manufactured in model year (MY) 2011. The preliminary theft data indicate that the vehicle theft rate for CY/MY 2011 vehicles (0.10 thefts per thousand vehicles) significantly decreased by 91.45 percent from the theft rate for CY/MY 2010 vehicles (1.17 thefts per thousand vehicles). Publication of these data fulfills NHTSA's statutory obligation to periodically obtain accurate and timely theft data, and publish the information for review and comment.

DATES: Comments must be submitted on or before September 9, 2013.

ADDRESSES: You may submit comments identified by Docket No. NHTSA-2012-0073 by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: West Building Ground Floor, Room W12-140, 1200 New Jersey Avenue SE., between 9 a.m. and 5 p.m. ET, Monday through Friday, except Federal holidays.

• Fax: 202-493-2251.

Instructions: For detailed instructions on submitting comments and additional information on the rulemaking process, see the Public Participation heading of the Supplementary Information section of this document. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketsInfo.dot.gov.

Docket: For access to the docket to read background documents or comments received, go to http://www.regulations.gov or the street address listed above. Follow the online instructions for accessing the dockets.

FOR FURTHER INFORMATION CONTACT: Ms. Deborah Mazyck, Office of International Policy, Fuel Economy and Consumer Programs, NHTSA, 1200 New Jersey Avenue SE., Washington, DC 20590. Ms. Mazyck's telephone number is (202) 366-4139. Her fax number is (202) 493-2990.

SUPPLEMENTARY INFORMATION: NHTSA administers a program for reducing motor vehicle theft. The central feature of this program is the Federal Motor Vehicle Theft Prevention Standard, 49 CFR Part 541. The standard specifies performance requirements for inscribing or affixing vehicle identification numbers (VINs) onto certain major original equipment and replacement parts of high-theft lines of passenger motor vehicles.

The agency is required by 49 U.S.C. 33104(b)(4) to periodically obtain, from the most reliable source, accurate and timely theft data, and publish the data for review and comment. To fulfill the section 33104(b)(4) mandate, this document reports the preliminary theft data for CY 2010 the most recent calendar year for which data are available.

In calculating the 2011 theft rates, NHTSA followed the same procedures it has used since publication of the 1983/1984 theft rate data (50 FR 46669, November 12, 1985). The 2011 theft rate for each vehicle line was calculated by dividing the number of reported thefts of MY 2011 vehicles of that line stolen during calendar year 2011 by the total number of vehicles in that line manufactured for MY 2011, as reported to the Environmental Protection Agency (EPA). As in all previous reports, NHTSA's data were based on information provided to NHTSA by the National Crime Information Center (NCIC) of the Federal Bureau of Investigation. The NCIC is a government system that receives vehicle theft information from approximately 23,000 criminal justice agencies and other law enforcement authorities throughout the United States. The NCIC data also include reported thefts of self-insured and uninsured vehicles, not all of which are reported to other data sources.

The preliminary 2011 theft data show a significant decrease in the vehicle theft rate when compared to the theft rate experienced in CY/MY 2010 (For 2010 theft data, see 77 FR 58500, September 21, 2012). The preliminary theft rate for MY 2011 passenger vehicles stolen in calendar year 2011 decreased to 0.10 thefts per thousand vehicles produced, a decrease of 91.45 percent from the rate of 1.17 thefts per thousand vehicles experienced by MY vehicles in CY 2010. For MY 2011 vehicles, out of a total of 226 vehicle lines, four lines had a theft rate higher than 3.5826 per thousand vehicles, the established median theft rate for MYs 1990/1991 (See 59 FR 12400, March 16, 1994). Of the four vehicle lines with a theft rate higher than 3.5826, four are passenger car lines, none are multipurpose passenger vehicle lines, and none are light-duty truck lines.

The agency believes that the theft rate reduction is a result of several factors, including vehicle parts marking; the increased use of standard antitheft devices and other advances in electronic technology (i.e., immobilizers) and theft prevention methods; increased and improved prosecution efforts by law enforcement organizations; and, increased public awareness which may have contributed to the overall reduction in vehicle thefts. The preliminary MY 2011 theft rate reduction is consistent with the general decreasing trend of theft rates over the past 19 years as indicated by Figure 1.

In Table I, NHTSA has tentatively ranked each of the MY 2011 vehicle lines in descending order of theft rate. Public comment is sought on the accuracy of the data, including the data for the production volumes of individual vehicle lines.

Comments must not exceed 15 pages in length (49 CFR 553.21). Attachments may be appended to these submissions without regard to the 15 page limit. This limitation is intended to encourage commenters to detail their primary arguments in a concise fashion.

If a commenter wishes to submit certain information under a claim of confidentiality, three copies of the complete submission, including purportedly confidential business information, should be submitted to the Chief Counsel, NHTSA, at the street address given in the FOR FURTHER INFORMATION CONTACT section, and two copies from which the purportedly confidential information has been deleted should be submitted to the docket. A request for confidentiality should be accompanied by a cover letter setting forth the information specified in the agency's confidential business information regulation. 49 CFR part 512.

All comments received before the close of business on the comment closing date indicated above for this document will be considered, and will be available for examination in the docket at the above address both before and after that date. To the extent possible, comments filed after the closing date will also be considered. Comments on this document will be available for inspection in the docket. NHTSA will continue to file relevant information as it becomes available for inspection in the docket after the closing date, and it is recommended that interested persons continue to examine the docket for new material.

Those persons desiring to be notified upon receipt of their comments in the rules docket should enclose a self-addressed, stamped postcard in the envelope with their comments. Upon receiving the comments, the docket supervisor will return the postcard by mail.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://DocketsInfo.dot.gov.

Authority: 49 U.S.C. 33101, 33102 and 33104; delegation of authority at 49 CFR 1.50.

Preliminary Report of Theft Rates for Model Year 2011 Passenger Motor Vehicles Stolen in Calendar Year 2011
| Manufacturer | Make/model (line) | Thefts 2011 | Production (mfr's) 2011 | 2011 Theft rate (per 1,000 vehicles produced)
1 | CHRYSLER | DODGE CHARGER | 216 | 44,849 | 4.8162
2 | MITSUBISHI | GALANT | 71 | 16,728 | 4.2444
3 | GENERAL MOTORS | CADILLAC STS | 18 | 4,637 | 3.8818
4 | LAMBORGHINI | GALLARDO | 1 | 259 | 3.8610
5 | HYUNDAI | ACCENT | 106 | 30,231 | 3.5063
6 | GENERAL MOTORS | CHEVROLET IMPALA | 591 | 172,098 | 3.4341
7 | GENERAL MOTORS | CHEVROLET HHR | 230 | 68,454 | 3.3599
8 | GENERAL MOTORS | CHEVROLET AVEO | 142 | 42,367 | 3.3517
9 | NISSAN | INFINITI FX35 | 21 | 6,711 | 3.1292
10 | NISSAN | GT-R | 1 | 326 | 3.0675
11 | KIA | RIO | 51 | 18,803 | 2.7123
12 | PORSCHE | PANAMERA | 22 | 8,144 | 2.7014
13 | CHRYSLER | DODGE CHALLENGER | 60 | 24,237 | 2.4756
14 | NISSAN | VERSA | 229 | 97,410 | 2.3509
15 | FORD MOTOR CO | MERCURY GRAND MARQUIS | 23 | 10,050 | 2.2886
16 | NISSAN | SENTRA | 213 | 95,341 | 2.2341
17 | NISSAN | ALTIMA | 387 | 179,269 | 2.1588
18 | AUDI | AUDI A8 | 10 | 4,751 | 2.1048
19 | MAZDA | 6 | 52 | 25,456 | 2.0427
20 | GENERAL MOTORS | CHEVROLET CAMARO | 196 | 97,518 | 2.0099
21 | MERCEDES-BENZ | S-CLASS | 19 | 9,652 | 1.9685
22 | TOYOTA | MATRIX | 9 | 4,588 | 1.9616
23 | GENERAL MOTORS | CHEVROLET MALIBU | 400 | 211,025 | 1.8955
24 | MITSUBISHI | ENDEAVOR | 22 | 12,018 | 1.8306
25 | CHRYSLER | DODGE AVENGER | 73 | 41,013 | 1.7799
26 | CHRYSLER | DODGE CALIBER | 65 | 37,104 | 1.7518
27 | KIA | FORTE | 91 | 52,119 | 1.7460
28 | FORD MOTOR CO | MUSTANG | 107 | 61,620 | 1.7365
29 | SAAB | 9-3 | 3 | 1,750 | 1.7143
30 | GENERAL MOTORS | CADILLAC DTS | 28 | 17,146 | 1.6330
31 | NISSAN | MAXIMA | 101 | 62,836 | 1.6074
32 | TOYOTA | CAMRY/SOLARA | 781 | 486,288 | 1.6060
33 | FORD MOTOR CO | TAURUS | 118 | 76,821 | 1.5360
34 | TOYOTA | YARIS | 38 | 24,850 | 1.5292
35 | AUDI | AUDI A3 | 10 | 6,734 | 1.4850
36 | CHRYSLER | 300 | 42 | 28,373 | 1.4803
37 | FORD MOTOR CO | CROWN VICTORIA | 27 | 19,244 | 1.4030
38 | JAGUAR LAND ROVER | XJ | 4 | 2,852 | 1.4025
39 | FORD MOTOR CO | MERCURY MARINER | 12 | 8,656 | 1.3863
40 | FORD MOTOR CO | FOCUS | 127 | 91,762 | 1.3840
41 | MERCEDES-BENZ | CLS-CLASS | 2 | 1,472 | 1.3587
42 | HONDA | ACURA ZDX | 1 | 737 | 1.3569
43 | NISSAN | INFINITI G25/G37 | 72 | 53,917 | 1.3354
44 | MAZDA | RX-8 | 1 | 768 | 1.3021
45 | MASERATI | GRANTURISMO | 2 | 1,545 | 1.2945
46 | MAZDA | 3 | 123 | 97,252 | 1.2648
47 | BENTLEY MOTORS | CONTINENTAL | 1 | 809 | 1.2361
48 | MERCEDES-BENZ | C-CLASS | 74 | 60,373 | 1.2257
49 | SUZUKI | SX4 | 16 | 13,280 | 1.2048
50 | KIA | SEDONA VAN | 20 | 16,717 | 1.1964
51 | HYUNDAI | ELANTRA | 119 | 99,916 | 1.1910
52 | NISSAN | CUBE | 17 | 14,294 | 1.1893
53 | HYUNDAI | SONATA | 350 | 301,276 | 1.1617
54 | HONDA | CIVIC | 158 | 136,721 | 1.1556
55 | TOYOTA | SCION XB | 23 | 19,909 | 1.1553
56 | VOLVO | S40 | 5 | 4,352 | 1.1489
57 | SUZUKI | KIZASHI | 7 | 6,110 | 1.1457
58 | CHRYSLER | JEEP LIBERTY | 65 | 57,104 | 1.1383
59 | FORD MOTOR CO | FUSION | 239 | 211,964 | 1.1276
60 | AUDI | AUDI A6 | 8 | 7,108 | 1.1255
61 | CHRYSLER | 200 | 72 | 64,140 | 1.1225
62 | CHRYSLER | DODGE NITRO | 40 | 35,638 | 1.1224
63 | KIA | SPORTAGE | 50 | 45,604 | 1.0964
64 | NISSAN | INFINITI M37/M56 | 16 | 14,818 | 1.0798
65 | BMW | 7 | 13 | 12,087 | 1.0755
66 | TOYOTA | SCION TC | 20 | 18,637 | 1.0731
67 | KIA | OPTIMA | 69 | 64,320 | 1.0728
68 | FORD MOTOR CO | LINCOLN TOWN CAR | 15 | 14,209 | 1.0557
69 | HONDA | CR-Z | 17 | 16,421 | 1.0353
70 | MERCEDES-BENZ | GLK-CLASS | 21 | 21,303 | 0.9858
71 | TOYOTA | COROLLA | 215 | 223,032 | 0.9640
72 | FORD MOTOR CO | LINCOLN MKT | 4 | 4,274 | 0.9359
73 | VOLVO | S80 | 4 | 4,281 | 0.9344
74 | BMW | M3 | 7 | 7,575 | 0.9241
75 | GENERAL MOTORS | GMC CANYON PICKUP | 6 | 6,510 | 0.9217
76 | TOYOTA | LEXUS GS | 5 | 5,485 | 0.9116
77 | FORD MOTOR CO | LINCOLN MKS | 12 | 13,171 | 0.9111
78 | VOLVO | C30 | 5 | 5,530 | 0.9042
79 | JAGUAR LAND ROVER | LAND ROVER LR2 | 3 | 3,333 | 0.9001
80 | MITSUBISHI | ECLIPSE | 5 | 5,610 | 0.8913
81 | GENERAL MOTORS | CHEVROLET CORVETTE | 11 | 12,353 | 0.8905
82 | HYUNDAI | SANTA FE | 62 | 69,685 | 0.8897
83 | HYUNDAI | GENERAL MOTORSSIS | 26 | 29,398 | 0.8844
84 | GENERAL MOTORS | BUICK LUCERNE | 28 | 31,887 | 0.8781
85 | SUZUKI | VITARA/GRAND VITARA | 5 | 5,704 | 0.8766
86 | VOLKSWAGEN | JETTA/GLI | 128 | 148,313 | 0.8630
87 | PORSCHE | CAYMAN | 1 | 1,199 | 0.8340
88 | KIA | SOUL | 80 | 96,970 | 0.8250
89 | JAGUAR LAND ROVER | XK/XKR | 3 | 3,662 | 0.8192
90 | MERCEDES-BENZ | E-CLASS | 61 | 74,557 | 0.8182
91 | BMW | B7 | 10 | 12,493 | 0.8005
92 | GENERAL MOTORS | BUICK LACROSSE/ALLURE | 49 | 62,533 | 0.7836
93 | FORD MOTOR CO | EDGE | 105 | 134,206 | 0.7824
94 | HONDA | ACURA TL | 10 | 12,807 | 0.7808
95 | HONDA | ACCORD | 173 | 221,250 | 0.7819
96 | CHRYSLER | JEEP PATRIOT | 41 | 53,153 | 0.7714
97 | GENERAL MOTORS | CADILLAC CTS | 43 | 57,930 | 0.7423
98 | VOLVO | C70 | 5 | 6,867 | 0.7281
99 | HONDA | ACCORD CROSSTOUR | 9 | 12,388 | 0.7265
101 | KIA | SORENTO | 121 | 168,443 | 0.7183
102 | TOYOTA | LEXUS IS | 22 | 30,811 | 0.7140
103 | FORD MOTOR CO | FIESTA | 55 | 77,183 | 0.7126
104 | AUDI | AUDI R8 | 1 | 1,416 | 0.7062
105 | HONDA | ACURA MDX | 36 | 51,201 | 0.7031
106 | NISSAN | PATHFINDER | 22 | 31,439 | 0.6998
107 | GENERAL MOTORS | BUICK REGAL | 35 | 50,439 | 0.6939
108 | BMW | 1 | 9 | 13,131 | 0.6854
109 | AUDI | AUDI A4/A5 | 29 | 42,875 | 0.6764
110 | NISSAN | 370Z | 4 | 6,218 | 0.6433
111 | FORD MOTOR CO | ESCAPE | 133 | 207,528 | 0.6409
112 | CHRYSLER | JEEP WRANGLER | 66 | 103,837 | 0.6356
113 | GENERAL MOTORS | CHEVROLET COLORADO PICKUP | 16 | 25,283 | 0.6328
114 | BMW | 5 | 42 | 66,525 | 0.6313
115 | MERCEDES-BENZ | SL-CLASS | 2 | 3,188 | 0.6274
116 | HONDA | INSIGHT | 8 | 12,924 | 0.619
117 | HONDA | ELEMENT | 7 | 11,460 | 0.6108
118 | BMW | 3 | 100 | 164,060 | 0.6095
119 | MAZDA | 2 | 11 | 18,108 | 0.6075
120 | TOYOTA | SCION XD | 4 | 6,609 | 0.6052
121 | JAGUAR LAND ROVER | XF | 7 | 11,734 | 0.5966
122 | AUDI | AUDI Q5 | 14 | 23,731 | 0.5900
123 | CHRYSLER | JEEP COMPASS | 25 | 42,921 | 0.5825
124 | MAZDA | CX-9 | 17 | 29,203 | 0.5821
125 | VOLKSWAGEN | TIGUAN | 15 | 25,785 | 0.5817
126 | TOYOTA | TACOMA PICKUP | 71 | 122,520 | 0.5795
127 | HONDA | ACURA RDX | 9 | 15,590 | 0.5773
128 | GENERAL MOTORS | CHEVROLET CRUZE | 100 | 177,381 | 0.5638
129 | MAZDA | CX-7 | 21 | 37,655 | 0.5577
130 | BMW | Z4/M | 3 | 5,450 | 0.5505
131 | TOYOTA | RAV4 | 100 | 181,785 | 0.5501
132 | GENERAL MOTORS | CADILLAC SRX | 32 | 59,077 | 0.5417
133 | VOLKSWAGEN | CC | 7 | 13,003 | 0.5383
134 | CHRYSLER | DODGE JOURNEY | 17 | 32,094 | 0.5297
135 | VOLKSWAGEN | EOS | 1 | 1,908 | 0.5241
136 | NISSAN | ROGUE | 72 | 138,221 | 0.5209
137 | FORD MOTOR CO | FLEX | 17 | 32,847 | 0.5176
138 | AUDI | AUDI S4/S5 | 4 | 7,820 | 0.5115
139 | PORSCHE | 911 | 3 | 5,892 | 0.5092
140 | NISSAN | FRONTIER PICKUP | 23 | 47,081 | 0.4885
141 | SUBARU | IMPREZA | 24 | 49,315 | 0.4867
142 | VOLVO | XC90 | 5 | 10,641 | 0.4699
143 | TOYOTA | SIENNA VAN | 87 | 187,467 | 0.4641
144 | TOYOTA | 4RUNNER | 26 | 56,942 | 0.4566
145 | TOYOTA | HIGHLANDER | 38 | 87,503 | 0.4343
146 | TOYOTA | VENZA | 18 | 42,351 | 0.4250
147 | SUBARU | LEGACY | 21 | 50,878 | 0.4128
148 | HYUNDAI | TUCSON | 32 | 78,643 | 0.4069
149 | FORD MOTOR CO | LINCOLN MKX | 11 | 27,119 | 0.4056
150 | MITSUBISHI | LANCER | 11 | 28,316 | 0.3885
151 | HONDA | PILOT | 63 | 163,910 | 0.3844
152 | NISSAN | JUKE | 16 | 42,380 | 0.3775
153 | NISSAN | MURANO | 21 | 56,539 | 0.3714
154 | HYUNDAI | AZERA | 1 | 2,699 | 0.3705
155 | FORD MOTOR CO | LINCOLN MKZ | 9 | 24,752 | 0.3636
156 | TOYOTA | FJ CRUISER | 4 | 11,018 | 0.3630
157 | HONDA | ACURA TSX | 8 | 22,189 | 0.3605
158 | GENERAL MOTORS | CHEVROLET EQUINOX | 67 | 188,476 | 0.3555
159 | BMW | MINI COOPER | 17 | 48,663 | 0.3493
160 | FORD MOTOR CO | RANGER PICKUP | 34 | 99,043 | 0.3433
161 | MITSUBISHI | OUTLANDER | 12 | 35,054 | 0.3423
162 | VOLVO | S60 | 1 | 2,951 | 0.3389
163 | FORD MOTOR CO | MERCURY MILAN | 2 | 6,291 | 0.3179
164 | VOLKSWAGEN | GOLF/RABBIT/GTI | 10 | 31,726 | 0.3152
165 | NISSAN | QUEST VAN | 5 | 16,012 | 0.3123
166 | MAZDA | TRIBUTE | 1 | 3,206 | 0.3119
167 | HONDA | FIT | 13 | 41,694 | 0.3118
168 | HYUNDAI | EQUUS | 1 | 3,305 | 0.3026
169 | TOYOTA | AVALON | 17 | 56,692 | 0.2999
170 | SUBARU | OUTBACK | 37 | 129,071 | 0.2867
171 | MERCEDES-BENZ | SMART FORTWO | 1 | 3,542 | 0.2823
172 | HONDA | CR-V | 70 | 255,339 | 0.2742
173 | NISSAN | XTERRA | 6 | 21,983 | 0.2729
174 | GENERAL MOTORS | GMC TERRAIN | 22 | 83,531 | 0.2634
175 | BMW | X3 | 6 | 23,188 | 0.2588
176 | HONDA | ODYSSEY VAN | 25 | 103,550 | 0.2414
177 | TOYOTA | LEXUS RX | 18 | 76,526 | 0.2352
178 | TOYOTA | LEXUS ES | 10 | 44,249 | 0.2260
179 | FORD MOTOR CO | TRANSIT CONNECT VAN | 6 | 28,091 | 0.2136
180 | TOYOTA | LEXUS LS | 2 | 9,861 | 0.2028
181 | TOYOTA | LEXUS CT | 2 | 10,216 | 0.1958
182 | MAZDA | MX-5 MIATA | 1 | 5,464 | 0.1830
183 | TOYOTA | PRIUS | 22 | 133,660 | 0.1646
184 | NISSAN | INFINITI EX35 | 1 | 6,118 | 0.1635
185 | SUBARU | FORESTER | 11 | 74,829 | 0.1470
186 | VOLVO | XC60 | 4 | 36,854 | 0.1085
187 | HYUNDAI | VERACRUZ | 1 | 10,861 | 0.0921
188 | LOTUS | EVORA | 0 | 347 | 0.0000
189 | ASTON MARTIN | DB9 | 0 | 86 | 0.0000
190 | ASTON MARTIN | V8 VANTAGE | 0 | 259 | 0.0000
191 | ASTON MARTIN | DBS | 0 | 104 | 0.0000
192 | ASTON MARTIN | RAPIDE | 0 | 317 | 0.0000
193 | AUDI | AUDI TT | 0 | 1,434 | 0.0000
194 | AUDI | AUDI S6 | 0 | 159 | 0.0000
195 | BENTLEY MOTORS | MULSANNE | 0 | 235 | 0.0000
196 | BMW | X5 | 0 | 37,865 | 0.0000
197 | BMW | X6 | 0 | 4,430 | 0.0000
198 | BMW | ACTIVE HYBRID 7L | 0 | 584 | 0.0000
199 | ROLLS ROYCE | DROPHEAD COUPE CONVERTIBLE | 0 | 82 | 0.0000
200 | FERRARI | 458 | 0 | 662 | 0.0000
201 | FERRARI | 599 | 0 | 247 | 0.0000
202 | FERRARI | 612 SCAGLIETTI | 0 | 1 | 0.0000
203 | FERRARI | CALIFORNIA | 0 | 518 | 0.0000
204 | GENERAL MOTORS | CADILLAC FUNERAL COACH/HEARSE | 0 | 752 | 0.0000
205 | GENERAL MOTORS | CADILLAC LIMOUSINE | 0 | 488 | 0.0000
206 | GENERAL MOTORS | PONTIAC G3 | 0 | 243 | 0.0000
207 | GENERAL MOTORS | CHEVROLET VOLT | 0 | 4,370 | 0.0000
208 | HONDA | ACURA RL | 0 | 1,012 | 0.0000
209 | KIA | RONDO | 0 | 109 | 0.0000
210 | KIA | BORREGO | 0 | 14 | 0.0000
211 | LOTUS | ELISE | 0 | 232 | 0.0000
212 | MASERATI | QUATTROPORTE | 0 | 635 | 0.0000
213 | MERCEDES-BENZ | SLK-CLASS | 0 | 1,288 | 0.0000
214 | MERCEDES-BENZ | CL-CLASS | 0 | 723 | 0.0000
215 | MERCEDES-BENZ | F-CELL | 0 | 44 | 0.0000
216 | MERCEDES-BENZ | SLS-CLASS | 0 | 863 | 0.0000
217 | PORSCHE | BOXSTER | 0 | 1,967 | 0.0000
218 | ROLLS ROYCE | PHANTOM | 0 | 67 | 0.0000
219 | ROLLS ROYCE | GHOST | 0 | 854 | 0.0000
220 | SAAB | 9-5 | 0 | 2,034 | 0.0000
221 | SUBARU | B9 TRIBECA | 0 | 2,780 | 0.0000
222 | SUZUKI | EQUATOR | 0 | 2,160 | 0.0000
223 | TOYOTA | LEXUS SC | 0 | 45,155 | 0.0000
224 | TOYOTA | LEXUS HS | 0 | 2,356 | 0.0000
225 | VOLVO | V50 | 0 | 865 | 0.0000
226 | VOLVO | XC70 | 0 | 5,069 | 0.0000

Issued on: June 25, 2013.
Christopher J. Bonanti,
Associate Administrator for Rulemaking.

[FR Doc. 2013-16428 Filed 7-8-13; 8:45 am]

BILLING CODE 4910-59-P